DEPARTMENT OF TRANSPORTATION

Federal Highway Administration

Environmental Impact Statement, Portageville Bridge Project (Wyoming and Livingston Counties, New York)

AGENCY: Federal Highway Administration (FHWA), United States Department of Transportation (USDOT).

ACTION: Notice of Intent.

SUMMARY: FHWA, as lead agency, is issuing this notice to advise the public that an Environmental Impact Statement (EIS) will be prepared for the proposed project to provide a modern rail crossing at the location of the existing Portageville Bridge (also known as the “Portage High Bridge”) over the Genesee River in Wyoming and Livingston Counties, New York.

FOR FURTHER INFORMATION CONTACT: Raymond Hessinger, New York State Department of Transportation, 50 Wolf Road, Albany, New York 12232, Telephone: (518) 457-8075; or Jonathan McDade, New York Division Administrator, Federal Highway Administration, Leo W. O'Brien Federal Building, 7th Floor, Room 719, Clinton Avenue and North Pearl Street, Albany, New York 12207, Telephone: (518) 431-4127.

SUPPLEMENTARY INFORMATION: The FHWA, in cooperation with the New York State Department of Transportation (NYSDOT) and Norfolk Southern Railway Company, will prepare an EIS in accordance with the National Environmental Policy Act (NEPA) on a proposal to construct a modern rail crossing of the Genesee River between Wyoming and Livingston Counties in New York.

The purpose of the Project is to address the existing deficiencies at Norfolk Southern's Portageville Bridge (also known as the “Portage High Bridge”) by providing a modern rail crossing of the Genesee River that is capable of carrying current industry standard freight rail loads, to the greatest degree possible meeting FRA Class 4 speeds, while reducing ongoing maintenance efforts and costs. The Project is needed in order for Norfolk Southern to continue safe, reliable and efficient rail operations on the Southern Tier route. These operations are critical to the economic viability and growth of the Southern Tier and other affected areas of New York.

Alternatives under consideration include: The no-build alternative; rehabilitation or reconstruction of the existing bridge; and construction of a new bridge at approximately the same location or at another location. The NEPA documentation will consider this list of alternatives and evaluations conducted to date, including information documented in a previously-published Draft EIS prepared pursuant to the New York State Environmental Review Act (SEQRA). The NEPA documentation will also consider reasonable and feasible alternatives identified during scoping. The EIS will identify a preferred alternative that meets the Project purpose and need of the project and is considered feasible based on engineering, cost, and social, economic, and environmental considerations.

Information describing the project, alternatives under consideration, and opportunities for agency and public involvement in the process will be sent to the appropriate Cooperating and Participating Agencies and to private organizations and citizens that have expressed an interest in this action. This information will also be available on the Project Web site (www.dot.ny.gov/portagevillebridge). The public and agencies will be offered an opportunity to comment on the Purpose and Need, range of alternatives, level of detail, methodologies, etc. This will be accomplished through public and agency outreach which will consist of: A formal public scoping meeting to be held in Mount Morris, New York in November 2013; a public hearing on the Draft EIS; meetings with the applicable Cooperating and Participating Agencies; and meeting with Section 106 Consulting Parties including federally recognized Indian tribes. The Draft EIS will also be available for public and agency review and comment. FHWA and NYSDOT will provide public notification of the time and location of the meetings and hearings.

The meetings will be accessible to persons with disabilities. If special services, such as an interpreter or sign language services, are needed, please contact Raymond Hessinger, New York State Department of Transportation.

To ensure that a full range of issues related to this proposed action are addressed and all significant issues are identified, comments and suggestions are invited from all interested parties. Comments or questions concerning this proposed action and the EIS should be directed to the FHWA or NYSDOT at the addresses provided above.

(Catalog of Federal Domestic Assistance Program Number 20.205, Highway Planning and Construction. The regulations implementing Executive Order 12372 regarding intergovernmental consultation on Federal programs and activities apply to this program.)

Issued on October 25, 2013.
Jonathan McDade,
New York Division Administrator, Federal Highway Administration.

[FR Doc. 2013-25865 Filed 10-30-13; 8:45 am]

BILLING CODE 4910-22-P